COMMISSION ON CIVIL RIGHTS

Agenda and Notice of Public Meeting of the North Carolina Advisory Committee

Notice is hereby given, pursuant to the provisions of the rules and regulations of the U.S. Commission on Civil Rights, that a conference call of the North Carolina Advisory Committee to the United States Commission on Civil Rights will convene at 2 p.m. (EDT) and adjourn at 3:30 p.m. (EDT) on Thursday, September 29, 2005. The purpose of the conference call is: (1) To discuss the Committee's study on Title I funding distribution by local school districts to individual schools and (2) to discuss a project on the desegregation status of school districts once subject to court jurisdiction.

This conference call is available to the public through the following call-in number: (800) 473-8692, the conference chair name is Peter Minarik. Any interested member of the public may call this number and listen to the meeting. Callers can expect to incur charges for calls not initiated using the supplied call-in number or over wireless lines and the Commission will not refund any incurred charges. Callers will incur no charge for calls using the call-in number over land-line connections. Persons with hearing impairments may also follow the proceedings by first calling the Federal Relay Service at 1-800-977-8339 and providing the Service with the conference call number and contact name.

To ensure that the Commission secures an appropriate number of lines for the public, persons are asked to register by contacting Peter Minarik, Southern Regional Office, U.S. Commission on Civil Rights at (404) 562-7000 by Tuesday, September 27, 2005.

The meeting will be conducted pursuant to the provisions of the rules and regulations of the Commission.

Dated at Washington, DC, September 14, 2005.
Ivy L. Davis,
Acting Chief, Regional Programs Coordination Unit.

[FR Doc. 05-18585 Filed 9-16-05; 8:45 am]

BILLING CODE 6335-01-P